DEPARTMENT OF DEFENSE

Department of the Army

Final Environmental Impact Statement for Army Training Land Retention at Pōhakuloa Training Area in Hawai'i (ID #EISX-007-21-001-1734439520)

AGENCY: Department of the Army, Department of Defense.

ACTION: Notice of availability.

SUMMARY: The Department of the Army (Army) announces the availability of a Final Environmental Impact Statement (Final EIS) regarding its proposed action to retain up to approximately 22,750 acres of the 23,000 acres of land the Army currently leases from the State of Hawai'i (“State-owned land”) at Pōhakuloa Training Area (PTA) on the island of Hawai`i. In accordance with the National Environmental Policy Act (NEPA) and the Hawai`i Environmental Policy Act (HEPA), the Final EIS analyzes the potential direct, indirect, and cumulative impacts of a range of reasonable alternatives that meet the purpose of and need for the proposed action. Because the proposed action involves State-owned land, the EIS is a joint NEPA-HEPA document that meets both NEPA and HEPA requirements. The Army will observe a 30-day waiting period before deciding how much land, if any, it will seek to retain.

DATES: The waiting period for the Final EIS will end 30 days after publication of this Notice of Availability in the Federal Register by the U.S. Environmental Protection Agency, at which time the Army can execute a Record of Decision.

ADDRESSES: The Final EIS and informational materials are available on the EIS website at: https://home.army.mil/hawaii/ptaeis/project-home. The public may also review the Final EIS and select materials at the following libraries:

1. Hawai'i State Library, Hawai'i Documents Center, 478 S. King Street, Honolulu, HI 96813

2. Hilo Public Library, 300 Waianuenue Avenue, Hilo, HI 96720

3. Kailua-Kona Public Library, 75-138 Hualalai Road, Kailua-Kona, HI 96740

4. Thelma Parker Memorial Public and School Library, 67-1209 Mamalahoa Highway, Kamuela, HI 96743

FOR FURTHER INFORMATION CONTACT: U.S. Army Garrison Hawai'i, Mr. Michael Donnelly, Public Affairs Office, by telephone at (808) 787-2140 or by email at usarmy.hawaii.nepa@army.mil.

SUPPLEMENTARY INFORMATION: During World War II, the U.S. Marine Corps trained on the land now known as PTA. A 1956 maneuver agreement between the Territory of Hawai'i and the Army formally established PTA. In 1964, the State of Hawai'i granted the Army a 65-year lease of approximately 23,000 acres of land for military purposes. The State-owned land now contains utilities, critical infrastructure, maneuver area, and key training facilities, some of which are unavailable elsewhere in Hawai'i. The parcel also allows access between the PTA cantonment area and approximately 84,000 acres of adjacent, federally owned land at PTA. The Army published a Draft EIS on April 8, 2022, and a Second Draft EIS on April 19, 2024. Native Hawaiian Organizations, federal, state, and local agencies and officials, and other stakeholders were invited to participate in the public comment processes for the Draft EIS and Second Draft EIS. The Army held two public meetings each for the Draft EIS and Second Draft EIS. Comments and responses to comments are included in the Final EIS.

The Final EIS evaluates the potential impacts of a range of reasonable alternatives: (1) Maximum Retention (of approximately 22,750 acres); (2) Modified Retention (of approximately 19,700 acres); and (3) Minimum Retention and Access (of approximately 10,100 acres and 11 miles of roads and training trails). The Final EIS also analyzes the potential impacts of the No-Action Alternative, under which Army use of the land would cease altogether when the lease expires in 2029. The Army has identified Alternative 2, Modified Retention, as the Preferred Alternative. To meet the mission of the Army, The Army based its preference on the ability of the alternative, as well as on public comments and environmental, social, technical, and economic considerations.

The Final EIS analyzes land use; biological resources; historic and cultural resources and cultural practices; hazardous substances and hazardous wastes; air quality and greenhouse gases; noise; geology, topography, and soils; water resources; socioeconomics; environmental justice; transportation and traffic; airspace; electromagnetic spectrum; utilities; and human health and safety.

The air quality, greenhouse gas, and environmental justice analyses were prepared according to now-rescinded Executive Orders, the Council on Environmental Quality's NEPA implementing regulations, which are in the process of being rescinded, and the Army's NEPA implementing regulations, which are now under revision. Because analysis regarding air quality, greenhouse gases, and environmental justice was already provided to the public for comment, such analysis is included in the Final EIS.

The Final EIS indicates that under Alternatives 1, 2, and 3, significant adverse impacts could occur on land use (land tenure), biological resources, cultural practices, and environmental justice. The Army has identified measures in the Final EIS to mitigate these adverse impacts.

The No-Action Alternative could have significant adverse impacts on biological resources, socioeconomics, and utilities, significant beneficial impacts on land use, cultural practices, and environmental justice, and less-than-significant impacts on all other resources.

The Army distributed the Final EIS to Native Hawaiian Organizations, Federal, State, and local agencies and officials, and other stakeholders.

James W. Satterwhite, Jr.,
U.S. Army Federal Register Liaison Officer.

[FR Doc. 2025-06686 Filed 4-17-25; 8:45 am]

BILLING CODE 3711-CC-P